DEPARTMENT OF HEALTH AND HUMAN SERVICES

Centers for Disease Control and Prevention

Disease, Disability, and Injury Prevention and Control Special Emphasis Panel (SEP): Pilot Longitudinal Data Collection To Inform Public Health—Fragile X Syndrome, DD11-007, Initial Review

Notice of Cancellation: This notice was published in the Federal Register on December 17, 2010, Volume 75, Number 242, page 78997.

This SEP previously scheduled to convene on April 15, 2011, is cancelled in its entirety.

Contact Person for More Information: Donald Blackman, Ph.D., Scientific Review Officer, CDC, National Center for Chronic Disease Prevention and Health Promotion, Office of the Director, Extramural Research Program Office, 4770 Buford Highway, NE., Mailstop K-92, Atlanta, Georgia 30341, Telephone: (770) 488-3023, E-mail: DBY7@cdc.gov.

The Director, Management Analysis and Services Office, has been delegated the authority to sign Federal Register notices pertaining to announcements of meetings and other committee management activities, for both the Centers for Disease Control and Prevention and the Agency for Toxic Substances and Disease Registry.

Dated: March 4, 2011.
Elaine L. Baker,
Director, Management Analysis and Services Office, Centers for Disease Control and Prevention.

[FR Doc. 2011-5628 Filed 3-10-11; 8:45 am]

BILLING CODE 4163-18-P